DEPARTMENT OF COMMERCE

International Trade Administration

U.S. Education Mission to Brazil; Brasilia, Rio de Janeiro and São Paulo, Brazil, August 30-September 6, 2012

AGENCY: International Trade Administration, Department of Commerce.

ACTION: Notice.

SUMMARY: The United States Department of Commerce, International Trade Administration, U.S. and Foreign Commercial Service is publishing this supplement to the Notice of the U.S. Education Mission to Brazil, 77 FR 13560, Mar. 7, 2012, to announce that the Mission will be executive-led and to amend the Notice to provide for selection of applicants on a rolling basis.

SUPPLEMENTARY INFORMATION:

Background

The U.S. Department of Commerce, International Trade Administration, U.S. and Foreign Commercial Service now anticipates that this Mission will be led by a senior-level U.S. government official. For that reason, consistent with Department policy, participants will now be selected through a two-tier vetting process. In order to expedite the notification of applicants, the U.S. Department of Commerce will review applications and make selection decisions on a rolling basis.

Amendments

1. For the reasons stated above, the Timeframe for Recruitment and Applications section of the Notice of the Education Mission to Brazil, 77 FR 13560, Mar. 7, 2012, is amended to read as follows:

Timeframe for Recruitment and Applications

Mission recruitment will be conducted in an open and public manner, including publication in the Federal Register, posting on the Commerce Department trade mission calendar (http://export.gov/industry/education/) and other Internet web sites, press releases to general and trade media, direct mail, notices by industry trade associations and other multiplier groups, and publicity at industry meetings, symposia, conferences, and trade shows. Recruitment for the mission will begin immediately and conclude no later than August 15, 2012. The U.S. Department of Commerce will review applications and make selection decisions on a rolling basis beginning April 4, 2012. Applications received after August 15, 2012 will be considered only if space and scheduling constraints permit.

Contact Information

U.S. Commercial Service in Brazil

Patricia S. Marega, Business Development Specialist, São Paulo, Tel: (55-11) 5186-7482, patricia.marega@trade.gov.

U.S. Export Assistance Center

Joan Kanlian, Westchester USEAC Director, Tel: 914-682-6712, Email: Joan.Kanlian@trade.gov.

Elnora Moye,
Trade Program Assistant.

[FR Doc. 2012-7312 Filed 3-26-12; 8:45 am]

BILLING CODE 3510-FP-P